FEDERAL ELECTION COMMISSION

Sunshine Act; Meeting

AGENCY: Federal Election Commission

* * * * *

Date & Time: Thursday, February 28, 2002 at 10 a.m.

Place: 999 E Street, NW., Washington, DC (Ninth Floor).

Status: This meeting will be open to the public.

The following items have been added to the agenda:

Draft Advisory Opinion 2002-01: Harry Kresky on behalf of Lenora B. Fulani and James Mangia

Draft Advisory Opinion 2002-02: Eric Gally

Revised Campaign Guide for Nonconnected Political Committees

FOR FURTHER INFORMATION CONTACT: Mr. Ron Harris, Press Officer, Telephone: (202) 694-1220.

Mary W. Dove,
Secretary of the Commission.

[FR Doc. 02-4864 Filed 2-25-02; 3:14 pm]

BILLING CODE 6715-01-M